DEPARTMENT OF VETERANS AFFAIRS

Research Advisory Committee on Gulf War Veterans' Illnesses, Notice of Meeting

The Department of Veterans Affairs (VA) gives notice under the Federal Advisory Committee Act, 5 U.S.C. ch. 10, that the Research Advisory Committee on Gulf War Veterans' Illnesses will meet at the Department of Veterans Affairs, 810 Vermont Avenue NW, Washington, DC 20420 in Room 230. The meeting sessions will begin and end as follows:

Dates | Times
September 7, 2023 | 9:00 a.m. to 2:30 p.m. Eastern Time (ET).
September 8, 2023 | 9:00 a.m. to 1:30 p.m. (ET).

All sessions will be open to the public. For interested parties who cannot attend in person, this meeting will also be available by videoconference by connecting to Webex at the following URLs:

September 7, 2023, 9:00 a.m. to 2:30 p.m. (ET): https://veteransaffairs.webex.com/veteransaffairs/j.php?MTID=m973072c682802f428665ee5a37cb3d18 or join by phone: 1-833-558-0712 Toll-free; meeting number (access code): 2762 359 0372. Meeting password: RACGWVI_Day1

September 8, 2023, 9:00 a.m. to 1:30 p.m. (ET): https://veteransaffairs.webex.com/veteransaffairs/j.php?MTID=m7642aa67a6afda9fedc8da87c768f2a5 or join by phone: 1-833-558-0712 Toll-free; meeting number (access code): 2761 759 7780. Meeting password: RACGWVI_DAY2

The purpose of the Committee is to provide advice and make recommendations to the Secretary of Veterans Affairs on proposed research studies, research plans, and research strategies relating to the health consequences of military service in the Southwest Asia theater of operations during the Gulf War in 1990-91.

The Committee will review VA program activities related to Gulf War Veterans' illnesses and updates on relevant scientific research published since the last Committee meeting. This meeting will focus in part on (1) discussion of the current state of GWI case definition and scientific strength of evidence needed for translational application and implementation, (2) new technologies that may aid in advancing the understanding of Gulf War Illness, and (3) deliberation of RACGWVI recommendations.

The meeting will include time reserved for public comments before the meeting closes on September 8, 2023. Individuals who wish to address the Committee may submit a 1-2 page summary of their comments for inclusion in the official meeting record. Members of the public may submit written statements for the Committee's review or seek additional information by contacting Dr. Karen Block, Designated Federal Officer, at 202-443-5600, or at Karen.Block@va.gov.

Dated: August 8, 2023.
LaTonya L. Small,
Federal Advisory Committee Management Officer.

[FR Doc. 2023-17274 Filed 8-10-23; 8:45 am]

BILLING CODE P